DEPARTMENT OF TRANSPORTATION

Office of the Secretary

[Docket No. OST-01-10380]

Hazardous Materials: Knowledge Required for Civil Penalty Enforcement Proceedings; Postponement of Public Meeting and Extension of Comment Period

AGENCY: Office of the Secretary, DOT.

ACTION: Postponement of public meeting and extension of comment period.

SUMMARY: Due to exigencies following the events of September 11, 2001, DOT is postponing a public meeting that had been scheduled for November 14, 2001 and extending the comment period to February 28, 2002. The purpose of the public meeting was to solicit comments for consideration by DOT in developing additional guidance as to when a reasonable person, offering, accepting, or transporting a hazardous material in commerce would be deemed to have knowledge of facts giving rise to a violation of the Federal Hazardous Materials law or the Hazardous Materials regulations.

DATES: Written comments must be received by February 28, 2002.

ADDRESSES: Submit comments to the Dockets Management System, U.S. Department of Transportation, Room PL 401, 400 Seventh Street SW, Washington, DC 20590-0001. Comments should identify Docket Number OST-01-10380 and be submitted in two copies. You may also submit comments by e-mail by accessing the DOT Dockets Management System website at http://dms.dot.gov.

FOR FURTHER INFORMATION CONTACT: LCDR Thomas Sherman, Intermodal Hazardous Materials Program, Office of Intermodalism, U.S. Department of Transportation, 400 Seventh Street SW, Washington, DC 20590. Telephone (202) 366-5846; E-Mail: Tom.Sherman@ost.dot.gov.

SUPPLEMENTARY INFORMATION: On August 15, 2001, at the request of industry, we published a notice announcing plans to host a public meeting to solicit comments for consideration by DOT in developing additional guidance as to when a reasonable person, offering, accepting, or transporting a hazardous material in commerce would be deemed to have knowledge of facts giving rise to a violation of the Federal Hazardous Materials law or the Hazardous Materials regulations, 66 FR 42909. Due to exigencies following the events of September 11, 2001, DOT has received a request from the Air Transport Association to postpone the meeting. DOT agrees and hereby postpones the meeting that had been scheduled for November 14, 2001. DOT intends to reschedule a public meeting on the same topic in 2002. We are also extending the comment period to February 28, 2002.

Issued in Washington, DC on October 15, 2001.
Jackie A. Goff,
Director, Intermodal Hazardous Materials Program, Office of Intermodalism.

[FR Doc. 01-26465 Filed 10-18-01; 8:45 am]

BILLING CODE 4910-62-P